FEDERAL ACCOUNTING STANDARDS ADVISORY BOARD

Notice of Public Hearing; Issuance of Interpretation 7, Items Held for Remanufacture; and Meeting Schedule for 2007 and 2008

Board Action: Pursuant to 31 U.S.C. 3511(d), the Federal Advisory Committee Act (Pub. L. 92-463), as amended, and the FASAB Rules of Procedure, as amended in April, 2004, notice is hereby given that the Federal Accounting Standards Advisory Board (FASAB) will hold a public hearing in conjunction with its May 23-24, 2007 Board Meeting to hear testimony about the Preliminary Views document, Accounting for Social Insurance, Revised. The public hearing will be held in room 1N37 of the GAO Building. The hearing will permit the Board to ask questions about information and points of view submitted by respondents. Those interested in testifying should contact Richard Fontenrose, Assistant Director, no later than one week prior to the hearing. Mr. Fontenrose can be reached at 202-512-7358 or via e-mail at fontenroser@fasab.gov. Respondents should, at the same time, provide a short biography and written copies of their testimony. The Preliminary Views document, issued in October 2006, is available on the FASAB Web site http://www.fasab.gov under “Exposure Drafts.” Comments on the document are requested by April 16, 2007. Also, notice is hereby given that the Federal Accounting Standards Advisory Board (FASAB) has issued interpretation 7, Items Held for Remanufacture. Copies of the interpretation can be obtained by contacting FASAB at 202-512-7350. The interpretation is also available on FASAB's home www.fasab.gov. Additionally, the Federal Accounting Standards Advisory Board (FASAB) will meet on the following dates in Room 7C13 of the U.S. Government Accountability Office (GAO) Building (441 G Street, NW) unless otherwise noted:

2007 Meetings

—Wednesday, May 23, 2007 (Room 1N37).

—Thursday, May 24, 2007.

—Wednesday and Thursday, July 25 and 26, 2007.

—Wednesday and Thursday, September 19 and 20, 2007.

—*Tuesday and Wednesday, December 4 and 5, 2007.

*(Rescheduled from November 14 and 15).

2008 Meetings

—Wednesday and Thursday, February 13 and 14, 2008.

—Wednesday and Thursday, April 16 and 17, 2008.

—Wednesday and Thursday, June 18 and 19, 2008.

—Wednesday and Thursday, August 20 and 21, 2008.

—Wednesday and Thursday, October 22 and 23, 2008.

—Wednesday and Thursday, December 17 and 18, 2008.

The purposes of the meetings will be to discuss issues related to:

—FASAB's conceptual framework,

—Stewardship Reporting,

—Social Insurance,

—Natural Resources,

—Inter-entity Costs,

—Fiduciary Activities,

—Technical Agenda, and

—Any other topics as needed.

A more detailed agenda will be available at the FASAB Web site(http://www.fasab.gov) one week prior to each meeting.

Any interested person may attend the meetings as an observer. Board discussion and reviews are open to the public. GAO Building security requires advance notice of your attendance. Please notify FASAB of your planned attendance by calling 202-512-7350 at least one day prior to the respective meeting.

For Further Information Contact: Wendy M. Comes, Executive Director, 441 G St., NW., Mail Stop 6K17V, Washington, DC 20548, or call (202) 512-7350.

Authority: Federal Advisory Committee Act. Pub. L. 92-463.

Dated: March 16, 2007.
Charles Jackson,
Federal Register Liaison Officer.

[FR Doc. 07-1383 Filed 3-20-07; 8:45 am]

BILLING CODE 1610-01-M